DEPARTMENT OF ENERGY

Federal Energy Regulatory Commission

[Project No. 12588-000]

Hydraco Power, Inc; Notice of Application Tendered for Filing With the Commission, and Soliciting Additional Study Requests

June 22, 2005.

Take notice that the following hydroelectric application has been filed with the Commission and is available for public inspection.

a. Type of Application: Exemption from License, 5 MW or Less.

b. Project No.: 12588-000.

c. Date Filed: May 3, 2005.

d. Applicant: Hydraco Power, Inc.

e. Name of Project: A. H. Smith Dam Project.

f. Location: On the San Marcos River near the town of Martindale, Caldwell County, Texas.

g. Filed Pursuant to: Public Utility Regulatory Policies Act of 1978, 16 U.S.C. 2705, 2708.

h. Applicant Contact: Linda A. Parker, Small Hydro of Texas, Inc., 1298 FM 766, Cuero, Texas 77954. (361) 275-9395.

i. FERC Contact: Monte TerHaar (202) 502-6035 or monte.terhaar@ferc.gov.

j. Cooperating agencies: We are asking Federal, state, local, and tribal agencies with jurisdiction and/or special expertise with respect to environmental issues to cooperate with us in the preparation of the environmental document. Agencies who would like to request cooperating status should follow the instructions for filing comments described in item l below.

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: 30 days from date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. The proposed project consists of: (1) An existing 10.5-foot-high by 86.5-foot-long concrete dam with a 20-foot-wide concrete apron; (2) an existing 3-foot-wide by 4-foot-high wooden stopgate positioned in the east bank of the dam; (3) a 10.62-acre impoundment; (4) an existing 20-foot-wide by 30-foot-long powerhouse; (5) an existing generator with installed capacity of 150 kilowatts (kW); (6) an existing 150 kW turbine; and (7) an existing trashrack of unknown dimensions.

The proposed project consists of an existing dam, generating equipment, and powerhouse which ceased hydropower generation in early 1990. Hydraco proposes to restore these facilities.

o. A copy of the application is on file with the Commission and is available for public inspection. This filing is available for review at the Commission in the Public Reference Room or may be viewed on the Commission's Web site at http://www.ferc.gov using the “eLibrary” link. Enter the docket number excluding the last three digits in the docket number field to access the document. For assistance, contact FERC online support at ferconlinesupport@ferc.gov or toll-free at 1-866-208-3676, or for Text Telephone (TTY) call (202) 502-8659. A copy is also available for inspection and reproduction at the address in item h above.

p. With this notice, we are initiating consultation with the Texas State Historic Preservation Officer (SHPO), as required by section 106, National Historic Preservation Act, and the regulations of the Advisory Council on Historic Preservation, 36 CFR 800.4.

q. Procedural schedule and final amendments: A separate notice will be posted with the Commission's proposed Hydro Licensing Schedule and a schedule for filing final amendments to the application.

Magalie R. Salas,
Secretary.

[FR Doc. E5-3402 Filed 6-29-05; 8:45 am]

BILLING CODE 6717-01-P